POSTAL SERVICE

39 CFR Part 111

New Address Quality Standards for First-Class Mail and Standard Mail

AGENCY: Postal Service.

ACTION: Proposed rule.

SUMMARY: This proposed rule provides revisions to Mailing Standards of the United States Postal Service, Domestic Mail Manual (DMM) that we will adopt no earlier than 18 months from the publication date of this notice. Move Update, the process for updating names and addresses, is currently required for mailers to obtain discounted rates for First-Class Mail. All address records used on pieces in discounted-rate mailings of First-Class Mail must be matched with customer-filed change-of-address orders received and maintained by the USPS using a USPS-approved method within 185 days of the date of mailing.

Our proposal includes the following changes related to move update processing: (1) Extending the Move Update requirement to all Standard Mail and (2) reducing the window for move update processing of names and addresses used for mailings of discounted First-Class Mail from 185 days to 95 days prior to mailing. The revised timeframe would apply to all pieces in Standard Mail mailings.

DATES: We must receive your comments on or before June 22, 2007.

ADDRESSES: Mail or deliver written comments to the Office of Product Management—Addressing, National Customer Support Center, United States Postal Service, 6060 Primacy Parkway, Ste. 201, Memphis, TN 38188-0001. You may inspect and photocopy all written comments at USPS Headquarters Library, 475 L'Enfant Plaza, SW., 11th Floor N, Washington, DC 20260-1450 between 9 a.m. and 4 p.m., Monday through Friday.

FOR FURTHER INFORMATION CONTACT: Charles B. Hunt, 901-681-4651; or Bert Olsen, 202-268-7276.

SUPPLEMENTARY INFORMATION: The decisions mailers make about address quality directly affect their ability to reach valued customers. Over the years, the Postal Service has invested heavily to create an automated mailstream to help drive costs out of the delivery system. An efficient automated mailstream depends on accurate barcodes for success; but barcodes are only as accurate as the quality of the addressing information that is their foundation.

The Postal Service is committed to working with the mailing industry to maintain a cost-efficient mailstream that provides timely delivery of the mail and ensures customer value. We work with customers to make sure databases are updated frequently and accurately to improve the overall accuracy of address information. If either the recipient has moved or the address is incorrect or missing an important addressing element then the mailpiece could become undeliverable-as-addressed (UAA) mail—an unnecessary expense of time, effort, and money for both mailers and the Postal Service.

Move Update is one of a number of ways to help mailers reach their customers in an efficient and cost-effective way. Approximately 44 million Americans change their addresses each year. Mailers who want to keep in touch with their customers and reach new customers have to make sure their mail is delivered. It's good business to update address lists frequently.

The changes we are proposing to the Move Update standards are needed to improve the level of address quality for mailings entered at discounted First-Class Mail and Standard Mail rates and will result in higher-quality addressing on mailpieces and in timely delivery to intended recipients.

We will provide a minimum 18-month implementation phase from the date of this notice to allow mailers of discounted First-Class Mail and Standard Mail sufficient time to make modifications necessary to comply with the proposed Move Update standards.

Part A of this notice summarizes our proposal. Part B provides our proposed revisions to DMM standards.

Part A

(1) Extend Move Update Requirement to Standard Mail

We propose extending the Move Update standard, which currently applies only to discounted rate First-Class Mail, to Standard Mail. A key reason is that one of the conclusions of a independent study we commissioned in 2004 of the cost, volume, and characteristics of poorly addressed mail—what we call “Undeliverable-as-Addressed” mail or “UAA” mail—pointed out that mail entered as Standard Mail accounted for 62.8 percent of all UAA mail volume. Furthermore, the percent of Standard Mail that was UAA was higher than the percent for any other class of mail (Standard Mail was 6.4 percent, First-Class Mail was 3.4 percent, Periodicals was 2.2 percent, and Package Services was 3.0 percent).

The majority of UAA Standard Mail is disposed of as waste—only a small percent of mail is endorsed for forwarding or return. In fact, in 2004, we disposed of approximately 6 billion Standard Mail mailpieces at a cost of almost $248 million.

The cost of UAA Standard Mail is even greater to our customers, who must consider the wasted cost of producing those mailpieces destined for disposal. Furthermore, customers are impacted by the lost opportunities that UAA mail causes. When a Standard Mail mailpiece is discarded, the mailer's opportunity to connect with a potential customer is lost. This is where the greatest impact is felt from poor address quality.

Given the significant cost impact of UAA Standard Mail to both the Postal Service and customers, we believe it is reasonable to implement the Move Update requirement for those using the discounted Standard Mail rates.

Authorized Methods

The following are authorized methods to meet the Move Update standard for Standard Mail:

• NCOALink™ processing.

• FASTforward™ MLOCR processing (letter mail only).

• Address Change Service (ACS), including the new OneCodeACS™.

• Ancillary service endorsements under DMM 507.1.5, except “Forwarding Service Requested.”

(2) Increase Frequency of Use of Move Update Processing

Currently the DMM requires that addresses on all discounted-rate First-Class Mail be updated within 185 days before the mailing date using a USPS-approved method. We propose that this 185-day window be reduced to 95 days and linked to the previous proposal of expanding the Move Update requirement to Standard Mail.

Approximately 14 percent of all Americans move every year. In 2006, families and individuals filed over 41 million change-of-address orders. In that same year, there were 2.3 million business filings. With such a dynamic environment, managing addresses affected by customer moves is challenging. On average, the monthly rate of deterioration of address currency, due to family and individual moves alone, is approximately 1.2 percent. In 6 months (the current Move Update requirement for discounted First-Class Mail), about 7.2 percent of addresses in your files have the potential to be inaccurate. To minimize this natural deterioration, we are proposing that Move Update processing be completed closer to the mailing date. By reducing the processing window from 185 days to 95 days prior to the mailing date, the natural deterioration of address currency can be expected to significantly decrease UAA volume and the costs associated with the redirection and rehandling (including disposal) of mail.

Part B

Although we are exempt from the notice and comment requirements of the Administrative Procedure Act [5 U.S.C. 553(b), (c)] regarding proposed rulemaking by 39 U.S.C. 410(a), we invite comments on the following proposed revisions to the Domestic Mail Manual, which is incorporated by reference in the Code of Federal Regulations. See 39 CFR 111.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

200 Discount Mail Letters and Cards

* * * * *

230 First-Class Mail

233 Rates and Eligibility

* * * * *

3.0 Basic Standards for First-Class Mail Letters

* * * * *

3.5 Move Update Standard

3.5.1 Basic Standards

* * * * *

[Revise item a as follows:]

a. Each address and associated occupant name used on the mailpieces in a mailing must be updated within 95 days before the mailing date, with one of the USPS-approved methods in 3.5.2.

* * * * *

[Revise item c as follows:]

c. The Move Update standard is met when an address used on a mailpiece in a mailing at any class of mail is updated with an approved method in 3.5.2, and the same address is used in a First-Class Mail mailing within 95 days after the address has been updated.

* * * * *

240 Standard Mail

243 Rates and Eligibility

* * * * *

3.0 Basic Standards for Standard Mail Letters

* * * * *

[Add new item 3.9 as follows:]

3.9 Move Update Standard

3.9.1 Basic Standards

The Move Update standard is a means of reducing the number of mailpieces in a mailing that require forwarding, return, or discard by the periodic matching of a mailer's address records with customer-filed change-of-address orders received and maintained by the USPS. For the purposes of this standard, “address” means a specific address associated with a specific occupant name. Addresses subject to the Move Update standard must meet these requirements:

a. Each address and associated occupant name used on the mailpieces in a mailing must be updated within 95 days before the mailing date, with one of the USPS-approved methods in 3.9.2.

b. Each individual address in the mailing is subject to the Move Update standard.

c. The Move Update standard is met when an address used on a mailpiece in a mailing at any class of mail is updated with an approved method in 3.9.2, and the same address is used in a Standard Mail mailing within 95 days after the address has been updated.

d. Except for mail bearing an alternative address format, addresses used on pieces claiming Standard Mail rates, regardless of any required surcharge, must meet the Move Update standard.

3.9.2 USPS-Approved Methods

The following methods are authorized for meeting the Move Update standard:

a. Address Change Service (ACS).

b. National Change of Address Linkage System (NCOALink).

c. FASTforward MLOCR processes if used each time before mail entry (for letter mail only). If a mailpiece that initially uses FASTforward MLOCR processing is rejected and then entered into a Direct View Encoding Desk (DVED) operation (or similar system), the piece does not meet the Move Update standard. The name and address information on the piece must then be processed through a FASTforward RVE system to meet the Move Update standard. FASTforward RVE processes also meet the Move Update standard if used each time before mail entry.

d. Ancillary service endorsements under 507.1.5.3, Standard Mail, except “Forwarding Service Requested.”

3.9.3 Mailer Certification

The mailer's signature on the postage statement certifies that the Move Update standard has been met for each address in the corresponding mailing presented to the USPS.

* * * * *

300 Discount Mail Flats

* * * * *

330 First-Class Mail

333 Rates and Eligibility

* * * * *

3.0 Eligibility Standards for First-Class Mail Flats

* * * * *

3.5 Move Update Standard

3.5.1 Basic Standards

* * * * *

[Revise item a as follows:]

a. Each address and associated occupant name used on the mailpieces in a mailing must be updated within 95 days before the mailing date, with one of the USPS-approved methods in 3.5.2.

* * * * *

[Revise item c as follows:]

c. The Move Update standard is met when an address used on a mailpiece in a mailing at any class of mail is updated with an approved method in 3.5.2, and the same address is used in a First-Class Mail mailing within 95 days after the address has been updated.

* * * * *

340 Standard Mail

343 Rates and Eligibility

* * * * *

3.0 Basic Standards for Standard Mail Flats

* * * * *

[Add new item 3.9 as follows:]

3.9 Move Update Standard

3.9.1 Basic Standards

The Move Update standard is a means of reducing the number of mailpieces in a mailing that require forwarding, return, or discard by the periodic matching of a mailer's address records with customer-filed change-of-address orders received and maintained by the USPS. For the purposes of this standard, “address” means a specific address associated with a specific occupant name. Addresses subject to the Move Update standard must meet these requirements:

a. Each address and associated occupant name used on the mailpieces in a mailing must be updated within 95 days before the mailing date, with one of the USPS-approved methods in 3.9.2.

b. Each individual address in the mailing is subject to the Move Update standard.

c. The Move Update standard is met when an address used on a mailpiece in a mailing at any class of mail is updated with an approved method in 3.9.2, and the same address is used in a Standard Mail mailing within 95 days after the address has been updated.

d. Except for mail bearing an alternative address format, addresses used on pieces claiming Standard Mail rates, regardless of any required surcharge, must meet the Move Update standard.

3.9.2 USPS-Approved Methods

The following methods are authorized for meeting the Move Update standard:

a. Address Change Service (ACS).

b. National Change of Address Linkage System (NCOALink).

c. Ancillary service endorsements under 507.1.5.3, Standard Mail, except “Forwarding Service Requested.”

3.9.3 Mailer Certification

The mailer's signature on the postage statement certifies that the Move Update standard has been met for each address in the corresponding mailing presented to the USPS.

* * * * *

400 Discount Mail Parcels

* * * * *

430 First-Class Mail

433 Rates and Eligibility

* * * * *

3.0 Basic Standards for First-Class Mail Parcels

* * * * *

3.5 Move Update Standard

3.5.1 Basic Standards

* * * * *

[Revise item a as follows:]

a. Each address and associated occupant name used on the mailpieces in a mailing must be updated within 95 days before the mailing date, with one of the USPS-approved methods in 3.6.2.

* * * * *

[Revise item c as follows:]

c. The Move Update standard is met when an address used on a mailpiece in a mailing at any class of mail is updated with an approved method in 3.6.2, and the same address is used in a First-Class Mail mailing within 95 days after the address has been updated.

* * * * *

440 Standard Mail

443 Rates and Eligibility

* * * * *

3.0 Basic Standards for Standard Mail Parcels

* * * * *

[Add new item 3.9 as follows:]

3.9 Move Update Standard

3.9.1 Basic Standards

The Move Update standard is a means of reducing the number of mailpieces in a mailing that require forwarding, return, or discard by the periodic matching of a mailer's address records with customer-filed change-of-address orders received and maintained by the USPS. For the purposes of this standard, “address” means a specific address associated with a specific occupant name. Addresses subject to the Move Update standard must meet these requirements:

a. Each address and associated occupant name used on the mailpieces in a mailing must be updated within 95 days before the mailing date, with one of the USPS-approved methods in 3.9.2.

b. Each individual address in the mailing is subject to the Move Update standard.

c. The Move Update standard is met when an address used on a mailpiece in a mailing at any class of mail is updated with an approved method in 3.9.2, and the same address is used in a Standard Mail mailing within 95 days after the address has been updated.

d. Except for mail bearing an alternative address format, addresses used on pieces claiming Standard Mail rates, regardless of any required surcharge, must meet the Move Update standard.

3.9.2 USPS-Approved Methods

The following methods are authorized for meeting the Move Update standard:

a. Address Change Service (ACS).

b. National Change of Address Linkage System (NCOALink).

c. Ancillary service endorsements under 507.1.5.3, Standard Mail, except “Forwarding Service Requested.”

3.9.3 Mailer Certification

The mailer's signature on the postage statement certifies that the Move Update standard has been met for each address in the corresponding mailing presented to the USPS.

* * * * *

We will publish an appropriate amendment to 39 CFR part 111 if our proposal is adopted.

Neva Watson,
Attorney, Legislative.

[FR Doc. E7-9881 Filed 5-22-07; 8:45 am]

BILLING CODE 7710-12-P